DEPARTMENT OF AGRICULTURE

Agricultural Marketing Service

[Doc. No. AMS-FGIS-25-0155]

United States Standards for Rice

AGENCY: Agricultural Marketing Service, USDA.

ACTION: Notice; request for comments.

SUMMARY: USDA's Agricultural Marketing Service (AMS) is seeking public comment on whether the United States Standards for Rough Rice, Brown Rice for Processing, and Milled Rice should be opened for comments and suggestions for revisions. The Rice Standards were last opened for comment in 2015. Since then, rice production, quality assessment methods, and consumer preferences may have changed.

DATES: Submit comments on or before January 20, 2026.

ADDRESSES: Interested persons are invited to submit comments electronically through the Federal e-rulemaking portal at http://www.regulations.gov. Comments may also be submitted by mail to Jacob Thein, USDA, AMS, 10383 N Ambassador Drive, Kansas City, MO 64153. All comments should reference document number AMS-FGIS-25-0155, the date of submission, and the page number of this issue of the Federal Register. Instructions for submitting and reading comments online are detailed on the site. All comments received will be posted to regulations.gov without change, including any personal information provided, and will be made available for public inspection at the above physical address during regular business hours.

FOR FURTHER INFORMATION CONTACT: Jacob Thein, USDA AMS; telephone: (816) 702-3923; email: Jacob.D.Thein@usda.gov.

SUPPLEMENTARY INFORMATION: Section 203(c) of the Agricultural Marketing Act of 1946, 7 U.S.C. 1622(c), directs and authorizes the Secretary of Agriculture “to develop and improve standards of quality, condition, quantity, grade, and packaging and recommend and demonstrate such standards in order to encourage uniformity and consistency in commercial practices.” AMS is committed to carrying out this authority in a manner that facilitates the marketing of agricultural commodities. The United States Standards for Rough Rice, Brown Rice for Processing, and Milled Rice (Rice Standards) appear in the Code of Federal Regulations in §§ 868.201 through 868.316 of title 7.

Background

Official USDA grade standards and associated voluntary, fee-for-service grading programs are authorized under the Agricultural Marketing Act of 1946, as amended (7 U.S.C. 1621, et seq.). The primary purpose of USDA grade standards, including the Rice Standards, is to divide the population of a commodity into uniform groups (of similar quality, value, etc.) to facilitate marketing. In concert, the Federal voluntary, fee-for-service grading programs are designed to provide an independent, objective determination as to whether a given product is in conformance with the applicable USDA grade standard. USDA quality grades provide a simple, effective means of describing product that is easily understood by both buyers and sellers.

The Rice Standards were first developed in 1927, and periodic revisions were made to reflect industry improvements or changes in the marketplace. The current Rice Standards were last updated in 2009 to move information previously provided on the grade line of the official certificate for Mixed rice to the “Results” section of the inspection certificate (74 FR 55441). Prior to that, the last substantial revisions occurred in 2002 with the addition of a new milling degree, i.e., “hard milled,” to the existing milling requirements and the elimination of the reference to “lightly milled” from the milling requirements (67 FR 61249 and 67 FR 62313).

Request for Comments

AMS is soliciting comments including data, recommendations, and other information from stakeholders about potential changes to the U.S. Standards for Rough Rice, Brown Rice for Processing, and Milled Rice. Comments may include any current and/or ongoing research or industry practice that has relevance to the Rice Standards. AMS also invites comments about how those changes would be implemented in the Federal voluntary, fee-for-service grading programs.

After reviewing the recommendations and information submitted in response to this notice, AMS will determine if it will propose official changes to the standards. If changes are proposed, a proposed rule with the updated Rice Standards will be published in the Federal Register for public comment period. Any comments outside the scope of this request for comments will not be considered. Commenters are encouraged to support their views with data and other information.

AMS invites responses to the following questions:

1. Should rough rice, brown rice, and milled rice that has an “Aromatic” odor be considered to have a commercially objectionable foreign odor (COFO) since the aroma is not found in more traditional varieties of rice?

Refer to the Rice Inspection Handbook (https://www.ams.usda.gov/publications/content/fgis-pdf-handbooks), sections 3.3, 4.3, 5.3 (Special Grades and Special Grade Requirements); sections 3.15, 4.15, 5.15 (Odor); and sections 3.35, 4.36, 5.39 (Aromatic Milled Rice).

2. Are the Sample Grade moisture limits for Brown rice (14.5 percent) and Milled rice (15.0 percent) acceptable as currently provided in the handbook?

Refer to the Rice Inspection Handbook, sections 4.2 and 5.2 (Grades and Grade Requirements), and sections 4.12 and 5.12 (Moisture).

3. Should the grading criteria for broken kernels removed by the 5 plate, the 6 plate, and the 6 sieve be removed from table 5.1 (Grades and Grade Requirements for Milled Rice: Long Grain, Medium Grain, Short Grain, and Mixed Milled Rice)?

Refer to the Rice Inspection Handbook, table 5.1 (Grades and Grade Requirements for Milled Rice: Long Grain, Medium Grain, Short Grain, and Mixed Milled Rice) and section 5.30 (Broken Kernels Removed by a 5 & 6 Plate or Through a 6 Sieve).

4. Should Paddy Kernels be inspected as a count only, a percentage only, or be left as currently provided in the handbook for Brown Rice for Processing?

Refer to the Rice Inspection Handbook, section 4.2 (Grades and Grade Requirements), section 4.22 (Paddy Kernels), section 5.2 (Grades and Grade Requirements), section 5.23 (Paddy Kernels), and section 5.24 (Seeds).

Melissa Bailey,
Associate Administrator, Agricultural Marketing Service.

[FR Doc. 2025-20217 Filed 11-17-25; 8:45 am]

BILLING CODE P